DEPARTMENT OF COMMERCE

Foreign-Trade Zones Board

[B-74-2016]

Foreign-Trade Zone 124—Gramercy, Louisiana; Application for Subzone; Danos & Curole Marine Contractor's, LLC; Morgan City, Louisiana

An application has been submitted to the Foreign-Trade Zones (FTZ) Board by the Port of South Louisiana, grantee of FTZ 124, requesting subzone status for the facility of Danos & Curole Marine Contractor's, LLC, located in Morgan City, Louisiana. The application was submitted pursuant to the provisions of the Foreign-Trade Zones Act, as amended (19 U.S.C. 81a-81u), and the regulations of the FTZ Board (15 CFR part 400). It was formally docketed on November 3, 2016.

The proposed subzone (367.5 acres) is located at 2547 Highway 66 South in Morgan City. No authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is December 19, 2016. Rebuttal comments in response to material submitted during the foregoing period may be submitted during the subsequent 15-day period to January 3, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: November 3, 2016.
Camille R. Evans,
Acting Executive Secretary.

[FR Doc. 2016-27080 Filed 11-8-16; 8:45 am]

BILLING CODE 3510-DS-P